DEPARTMENT OF TRANSPORTATION

Federal Aviation Administration

[Docket No: FAA-2018-0526]

Corrections to Previous Notice Regarding Supplemental Guidance on the Airport Improvement Program (AIP) for Fiscal Years 2018-2020

AGENCY: Federal Aviation Administration (FAA), U.S. Department of Transportation.

ACTION: Notice.

SUMMARY: On July 9, 2018, the FAA published a Federal Register notice announcing the process for eligible airport sponsors in two categories to notify the FAA of any supplemental discretionary funding requests. This notice addresses two omissions, one correction and one update.

FOR FURTHER INFORMATION CONTACT: Elliott Black, Director, Office of Airport Planning and Programming, APP-1, at (202) 267-8775.

SUPPLEMENTARY INFORMATION: The July 9, 2018 notice required airport sponsors to submit specific information via electronic mail (email) in order to request supplemental funding. In addition to the original requirements, for each request, the submission must also identify the total capital cost of the proposed project and the amount of funding being requested.

In addition, the FAA is developing an optional form that may make it easier for airports to ensure they provide all required information. The FAA will post the form online at https://www.faa.gov/airports/aip/aip_supplemental_appropriation/. Accordingly, airports may still submit their requests via electronic mail (email) as stated in the original Federal Register notice, or they may complete the optional form and transmit it via email. In addition, the FAA may eventually develop a web-based electronic portal for submission of requests. If this happens, then the FAA will post an announcement on the same website, which now also supports automated notifications regarding updates for users who choose to subscribe to the website.

Finally, in the July 9 notice, footnotes #6, 7 and 9 incorrectly referred to footnote #4.

They should have referred instead to footnote #5.

All other information, including submission requirements, evaluation criteria and deadlines remain unchanged from the original July 9 notice.

Issued in Washington, DC, on July 18, 2018.
Elliott Black,
Director, Office of Airport Planning and Programming, Federal Aviation Administration.

[FR Doc. 2018-15829 Filed 7-23-18; 8:45 am]

BILLING CODE 4910-13-P